DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the following locations: Village of Thomaston, Nassau County, NY; Detroit, MI; and Los Angeles, CA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before September 19, 2013.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Colonial Road Improvement Project, Village of Thomaston, Nassau County, NY. Project sponsor: Metropolitan Transportation Authority (MTA) Long Island Rail Road. Project description: The Colonial Road Improvement Project will extend the existing Great Neck pocket track, install a crossover connecting the pocket track with Main Line track, replace the Colonial Road Bridge, and correct drainage deficiencies beneath the Colonial Road Bridge to improve track drainage. Final agency actions: No use determination of Section 4(f) resources; Section 106 finding of no adverse effect; project-level air quality conformity, and Finding of No Significant Impact (FONSI), dated March 12, 2013. Supporting documentation: Environmental Assessment, dated December 2012.

2. Project name and location: Woodward Avenue Streetcar Project, Detroit, MI. Project sponsor: Michigan Department of Transportation. Project description: The project consists of a 3.3-mile, fixed-rail, at-grade streetcar system located entirely within the right-of-way of Woodward Avenue from Larned Street in downtown Detroit to Chandler Street/Delaware Street, north of Grand Boulevard in New Center. Final agency actions: No use determination of Section 4(f) resources; Section 106 Memorandum of Agreement, dated March 22, 2013; project-level air quality conformity; and Amended Record of Decision, dated April 5, 2013. Supporting documentation: Supplemental Environmental Assessment, dated February 2013.

3. Project name and location: Westside Subway Extension Project, Los Angeles, CA. Project sponsor: Los Angeles County Metropolitan Transportation Authority (LACMTA). Project description: The project will extend heavy rail transit, in a subway, from the existing Metro Purple Line western terminus at the Wilshire/Western Station to a new western terminus at the Westwood/Veterans Affairs (VA) Hospital Station. LACMTA will construct a geotechnical exploratory test shaft near the planned Wilshire/Fairfax Station in order to study ground conditions and measure gas and soil pressures as part of the pre-construction activities related to the project. This notice only applies to the discrete actions taken by FTA at this time, as described below. Nothing in this notice affects FTA's previous decisions, or notice thereof, for this project. Final agency actions: FTA determination that neither a supplemental environmental impact statement nor a supplemental environmental assessment is necessary. Supporting documentation: Final Exploratory Shaft Environmental Technical Memorandum, documenting any potential environmental impacts from construction of the exploratory shaft and mitigation measures implemented.

4. Project name and location: Crenshaw/LAX Transit Corridor Project, Los Angeles, CA. Project sponsor: Los Angeles County Metropolitan Transportation Authority (LACMTA). Project description: The project will extend heavy rail transit from the existing Metro Exposition Line at Crenshaw and Exposition Boulevards to the Metro Green Line's Aviation/LAX Station. LACMTA proposes three modifications to the project. These modifications resulted from refinements to design and efforts to reduce cost, to respond to community concerns, reduce right-of-way acquisition, and to improve circulation. The proposed modifications and refinements include reconfiguration of a mid-block at-grade pedestrian crossing to an undercrossing at Faithful Central Bible Church; reconfiguration of a below-grade trench to an aerial guideway over La Brea Avenue; and elevation of the planned at-grade Florence/La Brea Station to street level. This notice only applies to the discrete actions taken by FTA at this time, as described below. Nothing in this notice affects FTA's previous decisions, or notice thereof, for this project. Final agency actions: FTA determination that neither a supplemental environmental impact statement nor a supplemental environmental assessment is necessary. Supporting documentation: Supplemental Environmental Technical Memorandum, documenting any potential environmental impacts from the proposed design changes.

Issued on: April 16, 2013.
Lucy Garliauskas,
Associate Administrator for Planning and Environment, Washington, DC.

[FR Doc. 2013-09368 Filed 4-19-13; 8:45 am]

BILLING CODE 4910-57-P